OFFICE OF PERSONNEL MANAGEMENT

President's Commission on White House Fellowships Advisory Committee: Closed Meeting

AGENCY: President's Commission on White House Fellowships, Office of Personnel Management.

ACTION: Notice of meeting.

SUMMARY: The President's Commission on White House Fellowships (PCWHF) was established by an Executive Order in 1964. The PCWHF is an advisory committee composed of Special Government Employees appointed by the President.

The meeting is closed.

Name of Committee: President's Commission on White House Fellowships Mid-Year Meeting.

Date: March 13-15, 2019.

Time: 8:00 a.m.-5:30 p.m.

Place: Eisenhower Executive Office Building, 1650 Pennsylvania Avenue NW, Washington, DC 20502.

Agenda: The Commission holds a mid-year meeting to talk with current Fellows on how their placements are going and discuss preparation for future events.

FOR FURTHER INFORMATION CONTACT: Elizabeth D. Pinkerton, 712 Jackson Place NW, Washington, DC 20503, Phone: 202-395-4522.

President's Commission on White House Fellowships.
Alexys Stanley,
Regulatory Affairs Analyst.

[FR Doc. 2019-02726 Filed 2-19-19; 8:45 am]

BILLING CODE 6325-44-P